Title 3—

The President

Executive Order 13961 of December 7, 2020

Governance and Integration of Federal Mission Resilience

By the authority vested in me as President by the Constitution and the laws of the United States of America, including the National Security Act of 1947, as amended, I hereby order the following:

Section 1. Policy. It is the policy of the United States to maintain comprehensive and effective continuity programs that ensure national security and the preservation of government structure under the United States Constitution and in alignment with Presidential Policy Directive-40 (PPD-40) of July 15, 2016 (National Continuity Policy). Executive departments and agencies (agencies), including the Executive Office of the President, must maintain the capability and capacity to continuously perform National Essential Functions (NEFs), as defined by PPD-40, regardless of threat or condition, and with the understanding that adequate warning may not be available. Agency heads must fully integrate preparedness programs, including continuity and risk management, into day-to-day operations to ensure the preservation of the NEFs under all conditions.

Sec. 2. Federal Mission Resilience Strategy. To achieve this policy, in conjunction with this order, I am signing the Federal Mission Resilience Strategy (Strategy), which should be implemented to increase the resilience of the executive branch. Implementing the Strategy will reduce the current reliance on reactive relocation of personnel and enhance a proactive posture that minimizes disruption, distributes risk to the performance of NEFs, and maximizes the cost-effectiveness of actions that ensure continuity of operations, continuity of government, and enduring constitutional government.

Sec. 3. Executive Committee. (a) The Federal Mission Resilience Executive Committee (Executive Committee) is hereby established.

(b) The Executive Committee shall be composed of the Secretary of Defense, the Secretary of Homeland Security, the Director of National Intelligence, the Assistant to the President for National Security Affairs (APNSA), the Assistant to the President and Deputy Chief of Staff for Operations, and the Director of the Office of Management and Budget. When issues concerning science and technology, including communications technology, are on the agenda, the Executive Committee also shall include the Director of the Office of Science and Technology Policy (OSTP). The heads of other agencies, and other senior officials, shall be invited to attend meetings as appropriate.

(c) The APNSA, in coordination with the other members of the Executive Committee, shall be responsible for convening the committee, as appropriate, to coordinate the review, integration, and execution of the Strategy and other continuity policy across the executive branch.

(d) The Executive Committee shall:

(i) coordinate the development of an implementation plan (Plan) for the Strategy and other continuity policy, as described in section 4(b) of this order, and shall facilitate execution of the Plan and other continuity policy, as appropriate;

(ii) advise the President, through the Assistant to the President and Chief of Staff (Chief of Staff), on the review, integration, and execution of the Strategy and other continuity policy, including the recommendations outlined in section 4(c) of this order;

(iii) establish, with consensus of its members and as appropriate, subordinate coordinating bodies; and

(iv) coordinate the development of an interagency framework under which agencies will assess and address risk to Federal Mission Resilience and NEFs across the executive branch.

Sec. 4. Implementation. (a) Within 90 days of the date of this order, the Executive Committee shall submit a Federal Mission Resilience Executive Committee Charter to the President, through the Chief of Staff, that identifies any subordinate bodies, working groups, and reporting mechanisms that support the role of the Executive Committee.

(b) Within 90 days of the date of this order, the Executive Committee shall submit a Federal Mission Resilience Implementation Plan to the President, through the Chief of Staff, that sets forth how the executive branch will implement the Strategy. The Plan shall describe in detail the near-, mid-, and long-term actions necessary to ensure the uninterrupted performance of NEFs.

(c) Within 120 days of the date of this order, the Executive Committee shall coordinate the review of existing continuity policy and other related national policies, and shall provide recommendations to the President, through the Chief of Staff, on any actions necessary to align these policies with the implementation of the Strategy.

Sec. 5. Amendment to PPD-40. To designate a new National Continuity Coordinator (NCC), in section 6 of PPD-40, the second sentence is hereby revised to read as follows: “To advise and assist the President in that function, the Assistant to the President for National Security Affairs, or his or her designee, is designated as the NCC.”

Sec. 6. Amendments to Executive Order 13618. (a) Section 2.3 of Executive Order 13618 of July 6, 2012 (Assignment of National Security and Emergency Preparedness Communications Functions), is hereby revised to read as follows:

”The Director of OSTP is delegated the authority to exercise the authorities vested in the President by section 706(a), and (c) through (e) of the Communications Act of 1934, as amended (47 U.S.C. 606(a), and (c) through (e)), if the President takes the actions, including issuing any necessary proclamations and findings, required by that section to invoke those authorities. This delegation shall apply to any provisions of any future public law that are the same or substantially the same as the provisions referenced in this section.”

(b) Section 3 of Executive Order 13618 is hereby revoked. The responsibilities of the national security and emergency preparedness Executive Committee set forth in section 3.3 of Executive Order 13618 shall be transferred to and exercised by the Executive Committee established in section 3 of this order.

Sec. 7. Program Support. The national security and emergency preparedness Executive Committee Joint Program Office established by section 4 of Executive Order 13618 shall support the Executive Committee established in section 3 of this order, the execution of activities described in section 4 of this order, and those activities taken by the Director of OSTP pursuant to section 6 of this order.

Sec. 8. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 7, 2020.

[FR Doc. 2020-27353

Filed 12-9-20; 8:45 am]

Billing code 3295-F1-P